DEPARTMENT OF JUSTICE

[OMB Number 1140-0102]

Agency Information Collection Activities; Proposed eCollection eComments Requested; Title—Explosives Licensee/Permittee Out-of-Business Records

AGENCY: Bureau of Alcohol, Tobacco, Firearms, and Explosives; Department of Justice.

ACTION: 30-Day notice.

SUMMARY: The Department of Justice (DOJ), Bureau of Alcohol, Tobacco, Firearms, and Explosives (ATF), will be submitting the following information collection request to the Office of Management and Budget (OMB) for review and approval in accordance with the Paperwork Reduction Act of 1995.

DATES: ATF encourages comments on this information collection. You may submit written comments for 30 days, until midnight on March 23, 2026.

ADDRESSES: Submit written comments and recommendations for this information collection to the following website: www.reginfo.gov/public/do/PRAMain. Find this particular information collection by selecting “Currently under 30-day Review—Open for Public Comments” or by using the search function and entering either the title of the information collection or the OMB control number: 1140-0102.

FOR FURTHER INFORMATION CONTACT: If you have questions, or need a copy of the proposed information collection instrument with instructions or additional information, please contact: Matthew Grim at the Out-of-Business Records Center, either by mail at National Tracing Center; 244 Needy Road, Martinsburg, WV 25405, by email at ntcobrc@atf.gov, or by telephone at 800-788-7133, ext 03683.

SUPPLEMENTARY INFORMATION: The proposed information collection was previously published in the Federal Register, 90 FR 54760, on November 28, 2025, allowing a 60-day comment period. We encourage written comments and suggestions from the public and affected agencies concerning the proposed information collection. Your comments should address one or more of the following four points:

—Evaluate whether the proposed information collection is necessary to properly perform the identified functions of the Bureau, including whether the information will have practical utility;

—Evaluate the accuracy of the agency's estimate of the proposed information collection's burden, including the validity of the methodology and assumptions used;

—Evaluate whether, and if so how, the agency can enhance the quality, utility, and clarity of the information being collected; and

—Minimize the information collection's burden on those who are to respond, including through the use of appropriate automated, electronic, mechanical, or other technological collection techniques or other forms of information technology, e.g., permitting responses to be submitted electronically.

You may view this information collection request at www.reginfo.gov. Follow the instructions to view Department of Justice information collections currently under review by OMB and look for 1140-0102.

DOJ seeks PRA authorization for this information collection for three years. OMB authorization for an ICR cannot be for more than three years without renewal. DOJ notes that information collection requirements submitted to OMB for existing ICRs receive a month-to-month extension while they undergo review.

Overview of This Information Collection

1. Type of information collection: revising a previously approved collection.

2. Title of the form/collection: Explosives Licensee/Permittee Out-of-Business Records.

3. Agency form number, if any, and the applicable component of the Department of Justice sponsoring the collection:

Form number: none.

Component: Bureau of Alcohol, Tobacco, Firearms, and Explosives; U.S. Department of Justice.

4. Affected public who will be asked or required to respond, as well as a brief abstract:

Affected public: individuals or households; private sector for- or not-for-profit institutions.

Abstract: Regulations under 27 CFR 555.128 require explosives licensees/permittees to transfer required records to the ATF Out-of-Business Records Center when they discontinue business without a successor. The records on licensee/permittee importing, manufacturing, shipping, receiving, selling, or otherwise disposing of explosive materials aid ATF in conducting investigations into trafficking and other criminal misuse of explosives.

5. Obligation to respond: mandatory per § 555.121.

6. Total estimated number of respondents: 250 respondents.

7. Estimated time per respondent: 30 minutes.

8. Frequency: when the respondent discontinues business.

9. Total estimated annual time burden: 115 total hours.

10. Total estimated annual other costs burden: Based on records over the past three years, most out-of-business records are submitted in a large envelope. ATF estimates that mailing costs to submit out-of-business records is $1.27 for a large envelope. At 230 annual responses, ATF estimates that the total annual mailing costs for this ICR are $292.

Revisions to This Information Collection

Information Collection (IC) OMB 1140-0102 is being revised to reflect the decrease in the number of explosives licensees/permittees going out of business over the past three years, a decrease of 308 respondents. This change has resulted in a consequential decrease in public burden hours, down from 269 to 115 now. The reduced number of respondents, along with the ability to submit records electronically, has also resulted in a significant decrease in the shipping and mailing costs. In addition, this renewal includes a monetized value for the time burden, based on a new request from OMB, and the title has been slightly modified to clarify that it applies to explosives licensees/permittees.

Public Comments

ATF did not receive comments on this information collection during the 60-day notice and comment period.

If you need additional information, contact: Darwin Arceo, Department Clearance Officer, Enterprise Portfolio Management, Justice Management Division; United States Department of Justice; Two Constitution Square, 145 N Street NE, 4W-218 Washington, DC 20530.

Dated: February 18, 2026.
Darwin Arceo,
Department Clearance Officer for PRA, U.S. Department of Justice.

[FR Doc. 2026-03395 Filed 2-19-26; 8:45 am]

BILLING CODE 4410-FY-P